SMALL BUSINESS ADMINISTRATION

[Declaration of Disaster #3629]

State of Georgia

As a result of the President's major disaster declaration on September 18, 2004, I find that Carroll, Cherokee, Cobb, Dawson, DeKalb, Early, Franklin, Fulton, Gilmer, Madison, Rabun, Towns, Union, and White Counties in the State of Georgia constitute a disaster area due to damages caused by Hurricane Ivan occurring on September 14, 2004, and continuing. Applications for loans for physical damage as a result of this disaster may be filed until the close of business on November 17, 2004 and for economic injury until the close of business on June 20, 2005 at the address listed below or other locally announced locations: U.S. Small Business Administration, Disaster Area 2 Office, One Baltimore Place, Suite 300, Atlanta, GA 30308.

In addition, applications for economic injury loans from small businesses located in the following contiguous counties may be filed until the specified date at the above location: Baker, Banks, Bartow, Calhoun, Clarke, Clay, Clayton, Coweta, Douglas, Elbert, Fannin, Fayette, Forsyth, Gordon, Gwinnett, Habersham, Hall, Haralson, Hart, Heard, Henry, Jackson, Lumpkin, Miller, Murray, Oglethorpe, Paulding, Pickens, Rockdale, Seminole and Stephens in the State of Georgia; Cleburne, Henry, Houston and Randolph counties in the State of Alabama; Oconee county in the State of South Carolina; Cherokee, Clay, Jackson and Macon counties in the State of Tennessee.

The interest rates are:

| Percent
For Physical Damage:
Homeowners with credit available elsewhere, | 6.375
Homeowners without credit available elsewhere, | 3.187
Businesses with credit available elsewhere, | 5.800
Businesses and non-profit organizations without credit available elsewhere, | 2.900
Others (including non-profit organizations) with credit available elsewhere, | 4.875
For Economic Injury:
Businesses and small agricultural cooperatives without credit available elsewhere, | 2.900

The number assigned to this disaster for physical damage is 362908. For economic injury the number is 9ZX900 for Georgia; 9ZY100 for Alabama; 9ZY200 for South Carolina; and 9ZY300 for Tennessee.

(Catalog of Federal Domestic Assistance Program Nos. 59002 and 59008)
Dated: September 20, 2004.
Herbert L. Mitchell,
Associate Administrator for Disaster Assistance.

[FR Doc. 04-21903 Filed 9-29-04; 8:45 am]

BILLING CODE 8025-01-P